DEPARTMENT OF THE INTERIOR

National Park Service

[NPS-WASO-NAGPRA-NPS0034873; PPWOCRADN0-PCU00RP14.R50000]

Notice of Inventory Completion: Louisiana State University, Museum of Natural Science, Baton Rouge, LA

AGENCY: National Park Service, Interior.

ACTION: Notice.

SUMMARY: The Louisiana State University, Museum of Natural Science (LSUMNS), has completed an inventory of human remains and associated funerary objects in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to LSUMNS. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to LSUMNS at the address in this notice by December 19, 2022.

FOR FURTHER INFORMATION CONTACT: Dr. Rebecca Saunders, Louisiana State University, Museum of Natural Science, 119 Foster Hall, LSU, Baton Rouge, LA 70803, telephone (225) 578-6562 or (225) 588-0909, email rsaunde@lsu.edu.

SUPPLEMENTARY INFORMATION: Notice is here given in accordance with the Native American Graves Protection and Repatriation Act (NAGPRA), 25 U.S.C. 3003, of the completion of an inventory of human remains and associated funerary objects under the control of Louisiana State University, Museum of Natural Science, Baton Rouge, LA. The human remains and associated funerary objects were removed from multiple sites and parishes in the State of Louisiana.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by LSUMNS professional staff in consultation with representatives of the Chitimacha Tribe of Louisiana and members of the STARR Alliance.

History and Description of the Remains

In 1973, human remains representing, at minimum, two individuals, were removed from the Diversion Canal site (16AN16), in Ascension Parish, LA. The two burials were excavated by Richard Weinstein when he was examining the site as part of the research for his M.A. thesis (Weinstein 1974). At the time, the burials were eroding into the canal. Weinstein laid out excavation units encompassing the human remains and excavated them. The human remains were taken to LSUMNS, where Weinstein's major professor, Robert Neuman, was Curator of Anthropology. Burial 1 contained the human remains of an adult female. Burial 2 also contained the human remains of an adult, probably female. No known individuals were identified. No associated funerary objects are present.

In 1952, human remains representing, at minimum, 10 individuals were removed from the Big Goddel Bayou site (16AS1), in Assumption Parish, LA. Based on LSUMNS site cards and State site forms, these human remains derive from two separate surface collections made on August 2, 1952 by, respectively, Ed Orton (working for the McIntire Delta survey) and individuals from Louisiana State University (LSU). Nine of the individuals are adults and one is a subadult; all are of unknown sex. No known individuals were identified. No associated funerary objects are present.

At an unknown date, human remains representing, at minimum, nine individuals, were removed from the Marksville State Historic Site Museum, in Avoyelles Parish, LA. Two of the individuals are certainly from the Marksville site; provenience of the other individuals is unclear. In 1987, the Marksville State Historic Site Museum transferred some of these human remains to LSUMNS, and sometime between 1993 and 2000, it transferred the remainder to the Louisiana Division of Archaeology (LDOA). In 2000, LDOA transferred to LSUMNS the human remains it had obtained from the Marksville State Historic Site Museum. The human remains—primarily crania—belong to nine adults. No known individuals were identified. No associated funerary objects are present.

Between 1938 and 1940, and again between 1988 and 1989, human remains representing, at minimum, 112 individuals were removed from the Greenhouse Site (16AV2), in Avoyelles Parish, LA. Of this number, 107 individuals were removed during excavations conducted by the Works Progress Administration (WPA), under the direction of Robert Neitzel and Edward Doran. The human remains of an additional five individuals were removed from the site by Dennis Jones, during his work on the Archaeological Atlas and Report of Prehistoric Mounds (The Atlas). No known individuals were identified. No associated funerary objects are present.

In 1939, human remains representing, at minimum, one individual were removed from the Moncla Mound site (16AV9), in Avoyelles Parish, LA, by William Mulloy during a surface collection. The human remains belong to an adult. No known individual was identified. No associated funerary objects are present.

In 1939, human remains representing, at minimum, one individual were removed from the Johnson Place Cemetery site (16AV14) (also known as Emile Saucier Place), in Avoyelles Parish, LA, during a surface collection made by Robert S. Neitzel. The human remains belong to an adult. No known individual was identified. No associated funerary objects are present.

Between May and June of 1979, human remains representing, at minimum, 13 individuals, were removed from the Lake St. Agnes site (16AV26) (also known as Lac St. Agnes, and related to LMS 28-I-1), in Avoyelles Parish, LA, by Alan Toth during excavations overseen by Robert Neuman. Toth's field count reported 18 individuals, but this number was amended to 13 as a result of thesis research by Ken Tremblay in 2021. No known individuals were identified. (Seven associated funerary objects are in the possession of the landowner.)

In 1972, human remains representing, at minimum, one individual were removed from the School Bus Mound site (16AV38), in Avoyelles Parish, LA, during a surface collection conducted by Alan Toth. The human remains belong to an adult. No known individual was identified. No associated funerary objects are present.

In 1964, human remains representing, at minimum, one individual were removed from the Gunby East site (16CA4) (identified as Boeuf River Site on the LSUMNS site card, and identified as LMS 24-I-31 by the Peabody Museum Lower Mississippi Survey (LMS)), in Caldwell Parish, LA, during a surface collection conducted by William Haag. The human remains belong to an adult. No known individual was identified. No associated funerary objects are present.

In 1982, human remains representing, at minimum, one individual were removed from the Cottingham Landing site (16CA17) (LMS 25-I-20), in Caldwell Parish, LA, during a surface collection by Robert Neuman and the landowner, A.J. Guyon. The human remains belong to an adult. No known individual was identified. No associated funerary objects are present.

At an unknown date, human remains representing, at minimum, three individuals were removed by an unknown collector from either Little Chenier Mound site (16CM22) or Little Chenier (Ridge) site (16CM30), in Cameron Parish, LA. The human remains belong to three adults. No known individuals were identified. No associated funerary objects are present.

In 1967, human remains representing, at minimum, one individual were removed from the Little Chenier (Ridge) site (16CM30), in Cameron Parish, LA, during a surface collection conducted by Glen Cobb. The human remains belong to an adult. No known individual was identified. No associated funerary objects are present.

In 1972, human remains representing, at minimum, one individual were removed from the Little Pecan Island site (16CM43), in Cameron Parish, LA, by Robert Neuman during a surface collection. The human remains belong to an adult. No known individual was identified. No associated funerary objects are present.

At an unknown date, human remains representing, at minimum, one individual were removed from the Elkhorn Plantation site (16CO3) (called the Thomas site in the Baker collection records), in Concordia Parish, LA, by William Baker during an excavation at the site. The human remains belong to an adult. No known individual was identified. No associated funerary objects are present.

In 1988, human remains representing, at minimum, one individual were removed from the Prairie Lake Mound site (16CO28) (also known as the Glendale Landing Mound site), in Concordia Parish, LA, by Dennis Jones, Malcolm Shuman, and Ann Whitmer. The human remains were recovered from a pothole during mapping of the site for The Atlas. The human remains belong to an adult. No known individual was identified. No associated funerary objects are present.

In 1938, human remains representing, at minimum, one individual were removed from the Troyville Mounds site (16CT7), in Catahoula Parish, LA, by Norman Haight during a surface collection. The human remains belong to an adult. No known individual was identified. No associated funerary objects are present.

At an unknown date, human remains representing, at minimum, one individual were removed from 16CT42 (called the Open Brake site in the Baker collection records), in Catahoula Parish, LA, by William Baker during a surface collection. The human remains belong to an adult. No known individual was identified. No associated funerary objects are present.

At an unknown date, possibly 1997, human remains representing, at minimum, one individual were removed from 16CT97 (called the South Woods Bayou in the Baker collection records) in Catahoula Parish, LA, by William Baker. The human remains belong to an adult. No known individual was identified. No associated funerary objects are present.

In 1977, human remains, representing, at minimum, one individual were removed from the Griffin Field Site (16CT98) (LMS 25-J-12), in Catahoula Parish, LA, by William Baker during a surface collection. The human remains belong to an adult. No known individual was identified. No associated funerary objects are present.

At an unknown date, human remains representing, at minimum, 10 individuals were removed from the Cemetery #2 site (16CT116), in Catahoula Parish, LA, by William Baker during surface collection and excavation. These human remains belong to nine adults and one adolescent. One of the individuals might be male, but the collection is highly fragmented. No known individuals were identified. No associated funerary objects are present.

At an unknown date, human remains representing, at minimum, one individual were removed from the Bayou Louis #3 site (16CT128) (called the Plum Mounds site in the Baker collection records), in Catahoula Parish, LA, by William Baker during a surface collection. The human remains belong to an adult. No known individual was identified. No associated funerary objects are present.

Between 1977 and 1982, human remains representing, at minimum, one individual were removed from 16CT141 (called the Hawkins Shed site in the Baker collection records), in Catahoula Parish, LA, by William Baker during a surface collection. The human remains belong to an adult. No known individual was identified. No associated funerary objects are present.

Between 1976 and 1984, human remains representing, at minimum, 26 individuals were removed from the Cowpen Slough site (16CT147), in Catahoula Parish, LA, by several unnamed individuals. No known individuals were identified. No associated funerary objects are present. (A pair of antlers was associated with the burials in Feature 8, but the location of the antlers is unknown.)

Possibly in 1937—the date was not recorded in the LSUMNS ledger, but the surrounding entries suggest this date—human remains representing, at minimum, two individuals were removed from the Knox Place site (16EBR4), in East Baton Rouge Parish, LA, during a surface collection by Fred Kniffen and Walter Beecher. The human remains belong to two adults. No known individuals were identified. No associated funerary objects are present.

At an unknown date, human remains representing, at minimum, two individuals were removed from a plowed field in Franklin Parish, LA, by an unknown individual during a surface collection. The human remains belong to two adults. No known individuals were identified. No associated funerary objects are present.

In 1968, human remains representing, at minimum, 12 individuals were removed from the White Oak Landing site, (16FR6), in Franklin Parish, LA, during a surface collection of a plowed field by T.L. Gatton. (The GIS database also lists LMS 24-I-4 and Ford's #74. The site has also received the number 16FR161, but the form for that site indicates that 16FR6 is preferred.) The human remains belong to 12 adults. No known individuals were identified. No associated funerary objects are present.

Between 1969 and 1971, human remains representing, at minimum, 275 individuals were removed from the Morton Shell Mound site (16IB3) (also known as Weeks Island and LMS 33-I-3), on the Weeks Island salt dome, in Iberia Parish, LA. The burials were recovered as part of an intensive research program under the direction of then-LSUMNS Curator of Anthropology Robert Neuman. No known individuals were identified. No associated funerary objects are present.

In 1937, human remains representing, at minimum, one individual were removed from the Blind Hooppole Bayou site (16IB6) in Iberia Parish, LA, by Fred Kniffen and Walter Beecher during a surface collection. The human remains belong to an adult. No known individual was identified. No associated funerary objects are present.

In 1975, human remains representing, at minimum, two individuals were removed from 16IB107, in Iberia Parish, LA, during a surface collection conducted by Frank Servello and others. The human remains belong to an adult and a juvenile. No known individuals were identified. No associated funerary objects are present.

In 1937, human remains representing, at minimum, one individual were removed from the Bayou Sorrel Mound site (16IV4), in Iberville Parish, LA, by Fred Kniffen and Walter Beecher during a surface collection. The human remains—a mandible fragment with three extremely worn teeth—belong to an older adult. No known individual was identified. No associated funerary objects are present.

In 1937, human remains representing, at minimum, one individual were recovered from the Reed Mounds site (16IV5) (also known as Kniffen's #4), in Iberville Parish, LA, as part of a surface collection by Fred B. Kniffen and Walter F. Beecher. LSUMNS has located six cranial fragments. The LSUMNS ledger also lists five human teeth, but they cannot be located at this time. The human remains belong to an adult. No known individual was identified. No associated funerary objects are present.

In 1960, human remains representing, at minimum, one individual were removed from the Bruly St. Martin site (16IV6) (also known as the Grand Bayou Site and Kniffen #11) in Iberville Parish, LA, by William G. Haag, as part of a surface collection of the site. The human remains belong to an adult. No known individual was identified. No associated funerary objects are present.

In 1883, human remains representing, at minimum, one individual were removed from site 16JE000, in Jefferson Parish, LA, by R.W. Shufeldt during surface collection and excavation. The human remains, which are part of the Shufeldt Collection at LSUMNS, belong to an adult. No known individual was identified. No associated funerary objects are present.

At an unknown date (possibly 1935), human remains representing, at minimum, five individuals were removed from the Little Bayou Barataria (16JE1) (Kniffen referred to this site as Bayou Dupont), in Jefferson Parish, LA, by an unknown individual. The human remains belong to five adults. No known individuals were identified. No associated funerary objects are present.

In 1935, and again in 1975, human remains representing, at minimum, two individuals were removed from the Bayou Cutler #1 site (16JE3) (also known as Bayou Cutler and Cheniere Cutler), in Jefferson Parish, LA. The human remains removed in 1935 were part of a surface collection by Fred B. Kniffen (#687). These human remains—a single incisor—belong to an adult. The human remains collected in 1975, presumably from the surface of the site, were discovered in wooden box of the type used by Sherwood Gagliano, Ph.D., to store survey materials. The box was labeled “Metairie Beach Deposit No. 1,” and the bones were labeled with ledger numbers identifying them as having come from 16JE3. The human remains belong to two adults. No known individuals were identified. No associated funerary objects are present.

Between the 1930s and 1958, human remains representing, at minimum, eight individuals were collected from the Bonnabel site (16JE6), in Jefferson Parish, LA. LSUMNS ledger records indicate that in 1939, an unnamed individual gave materials from this site to the Museum (#5262). Subsequent surface collections containing human bones were made by Gagliano (1950s (#20480) and 1958 (#19605)) and Saucier and Gagliano (1958 (#20150)). In addition, labels on two bags contain provenience information (#19780 states “pit A in mound” and #20480 states “second mound”). Lastly, a donation of human remains from this site contains no information regarding the collector or the date when the human remains were removed. The human remains belong to eight adults. No known individuals were identified. No associated funerary objects are present.

Sometime in the 1970s (perhaps 1975 or 1977), human remains representing, at minimum, one individual were removed from the Fleming/Berthoud Cemetery (16JE36) (also known as Mavis Grove Plantation), in Jefferson Parish, LA, by Sherwood Gagliano during a surface collection. According to the LSUMNS ledger, the accession number (#20637) was one of a block of numbers given by LSUMNS to Coastal Environments, Inc. (CEI), a cultural resources management firm co-founded by Gagliano. Gagliano took the collection to CEI, where it remained until, in 2001, it was brought to LSUMNS by a graduate student employed at CEI. In 2021, when CEI sent Gagliano's catalogs to LSUMNS, the number was not on those logs. No known individual was identified. No associated funerary objects are present.

In 1952, human remains representing, at minimum, one individual were removed from the Graveyard site (16JE45), in Jefferson Parish, LA, by Kniffen, McIntire, and Saucier during a surface collection. The human remains belong to an adult. No known individual was identified. No associated funerary objects are present.

In 1969, human remains representing, at minimum, six individuals were removed from the Killeen site (16JE48), in Jefferson Parish, LA, by Robert Neuman and David Morgan. The human remains belong to four adults and two subadults. No known individuals were identified. No associated funerary objects are present.

Between 1938 and 1939, human remains representing, at minimum, 82 individuals were removed from the Crooks Mound site (16LA3), in LaSalle Parish, LA, during a joint excavation project between LSU and the Works Progress Administration (WPA). No known individuals were identified. The 24 associated funerary objects are two projectile points, three plain pottery vessels, 16 decorated pottery vessels, one ear spool, and two quartz crystals.

At an unknown date, human remains representing, at minimum, one individual were removed from the Bradford's Camp site (16LA21) (also known as J. Gibson #2), in LaSalle Parish, LA, by Ed Yule, a resident of the Town of Jena. The human remains belong to an adult. No known individual was identified. The three associated funerary objects are vessels.

At an unknown date, human remains representing, at minimum, one individual were removed from the Temple Mound site (16LF4) (also appearing as “Grand Temple Mound” on one site form), in Lafourche Parish, LA, by an unknown collector. The human remains belong to an adult. No known individual was identified. No associated funerary items are present.

In 1935, human remains, representing, at minimum, one individual were removed from the Bayou Chactimahan site (16LF17) (also known as Bowie), in Lafourche Parish, LA, by an unknown collector. The human remains—a mandible—belong to a young-to-middle-aged adult male. No known individual was identified. No associated funerary objects are present.

In 1952, human remains, representing, at minimum, one individual were removed from site 16LF28 (the LSUMNS site card name is Eagle Island Bayou), in LaFourche Parish, LA, by Randolph Bazet during a surface collection. The human remains belong to an adult. No known individual was identified. No associated funerary objects are present.

In 1973, 1992, and 1994, human remains representing, at minimum, two individuals were removed from the Booth Shell Bank site (16LV6), in Livingston Parish, LA. A portion of the human remains was recovered by Paul Orr in 1973 (Accession #16LV6-8). Another portion was removed by R. Saunders in 1994 during a separate surface collection (Accession #16LV6-45). In 1992, Michael Eldredge, an avocational archeologist, collected materials from the site, among which were human bones. After passing through the Louisiana Office of State Parks, the Eldridge collection was transferred to LDOA sometime between 1993 and 2000. In 2000, LDOA transferred the collection to LSUMNS. At least one of the individuals can be identified as an 18-21-year-old adolescent/young adult. No known individuals were identified. No associated funerary objects are present.

In 1996, human remains, representing, at minimum, two individuals were removed from the Sharp Site (16LV13) in Livingston Parish, LA, during a surface collection by Robert Barilleaux. The human remains belong to two adults. No known individuals were identified. No associated funerary objects are present.

Sometime during 1996-1997, human remains representing, at minimum, one individual were removed from the Sharp Site (16LV13) in Livingston Parish, LA, during field school excavations directed by Dr. Rebecca Saunders of LSU. The human remains belong to an adult. No known individual was identified. No associated funerary objects are present.

In 1973, human remains representing, at minimum, one individual were removed from the Clio Mound Site (16LV15) (also known as Clio), in Livingston Parish, LA. These fragmentary human remains were excavated from Test Pit #2 by Weinstein and Facundas as part of the research for Weinstein's M.A. thesis. The bone fragments were retrieved from the first 10 cm of the excavation. The human remains belong to an adult. No known individual was identified. No associated funerary objects are present.

At an unknown date, human remains representing, at minimum, one individual were removed from the Fontenot site (16LV16), in Livingston Parish, LA, by an unknown collector. The human remains belong to an adult. No known individual was identified. No associated funerary objects are present.

At an unknown date, human remains representing, at minimum, one individual were removed from the Hall Site (16LV33), in Livingston Parish, LA, by an unknown collector, presumably during a surface collection. Numbers associated with the remains follow a format like the one used by LSUMNS (and the State of Louisiana), but there is no accession/catalog record for this site in LSUMNS's records. The human remains belong to an adult. No known individual was identified. No associated funerary objects are present.

Between 1969 and 1973, human remains representing, at minimum, two individuals were removed from the Burial site (16LV37) (also known as Old Tree), in Livingston Parish, LA. In 1969, Robert Neuman removed human remains during a surface collection (Accession #16LV37-1, 2). Subsequently (1973), Weinstein and Facundus also removed human bone (Accession #16LV37-7). The human remains belong to two adults. No known individuals were identified. No associated funerary objects are present.

Between 1973 and 1974, human remains representing, at minimum, four individuals were removed from the Bayou Chene Blanc site (16LV43) (also known as Whitehall), in Livingston Parish, LA, by Richard Weinstein, who was following up on the results of his 1974 M.A. thesis research. The human remains belong to four adults. No individuals were identified. No associated funerary objects are present.

In 1932, human remains, representing, at minimum, one individual were removed from the Sevier's Place site (16MA3) (identical with 16MA24 and 16MA45), in Madison Parish, LA, by James Ford during a surface collection. The human remains belong to an adult. No known individual was identified. No associated funerary objects are present.

During 1969-1970, human remains, representing, at minimum, 77 individuals were removed from the Mt. Nebo site (16MA18) (LMS 23-K-12), in Madison Parish, LA, during excavations conducted by Robert Neuman of LSUMNS. No known individuals were identified. No associated funerary objects are present.

In 1968, human remains, representing, at minimum, one individual were removed from the Batchelor Mound Site (16MA27) (also known as Bull Bayou and LMS 22-K-23), in Madison Parish, LA, by George Percy during a surface collection. The human remains belong to an adult. No known individual was identified. No associated funerary objects are present.

In 1968, human remains representing, at minimum, four individuals were removed from the L.C. Parker site (16MA33), in Madison Parish, LA, by George Percy during a surface collection. When Percy moved to Florida to become the Florida State Historic Preservation Officer, he took materials from Louisiana with him, including a portion of the collection from 16MA33. Those 16MA33 materials were returned to LSUMNS in 2009, and were added to a pre-existing catalog. The human remains belong to four adults. No known individuals were identified. No associated funerary objects are present.

In 1972 and 1974, human remains representing, at minimum, four individuals were removed from the J.W. Copes site (16MA47), in Madison Parish, LA, during surface collections. The 1972 collector was William Haag; the 1974 collector is unknown. The human remains belong to two adults, one juvenile, and one neonate. No known individuals were identified. No associated funerary objects are present.

In 1973, human remains representing, at minimum, one individual were removed from site 16NA19, in Natchitoches Parish, LA, by Ricky Collins and Artis Durr during a surface collection. The human remains belong to an adult. No known individual was identified. No associated funerary objects are present.

In 1973, human remains representing, at minimum, one individual were removed from the Sportsman's Inn site (16NA20_16NA105) (also known as the Sportsman Lodge Site, as NSU NA 105 and, in the LSUMNS ledger, as Fort Selden), in Natchitoches Parish, LA, by Robert Neuman during a surface collection. The human remains belong to an adult. No known individual was identified. No associated funerary objects are present.

In 1939, human remains representing, at minimum, 47 individuals were removed from the “The Little Woods” sites (16OR1-5), in Orleans Parish, LA, by Preston Holder, during “re-excavations” of a series of discrete shell middens on the southeastern shore of Lake Pontchartrain. The human remains belong to 47 adults. No known individuals were identified. No associated funerary objects are present.

In 1972, 1973, and 1982, human remains representing, at minimum, 69 individuals were removed from the Big Oak Island site (16OR6), in Orleans Parish, LA. No known individuals were identified. No associated funerary objects are present.

In 1939, 1974, and in the 1980s, human remains representing, at minimum, 29 individuals were removed from the Pine Island/Little Oak Island site (16OR7), in Orleans Parish, LA, by, respectively, Preston Holder (during an excavation); Richard Shenkel and Jon Gibson (during excavations); and Richard Shenkel and Douglas Owsley (during surface collection and excavation). No known individuals were identified. No associated funerary objects are present.

In 1970, human remains representing, at minimum, one individual were removed from the Rabbit Island site (16OR16), in Orleans Parish, LA, by Gloria Thom during a surface collection of materials that had been dredged from the site. The human remains belong to an adult. No known individual was identified. No associated funerary objects are present.

In 1970, human remains representing, at minimum, one individual were removed from the Hospital Foundations/Garcia site (16OR34) (also known as Les Petites Coquilles, as Little Shells, and as Fort Pike Hospital), in Orleans Parish, LA, by Tommy Ryan during a surface collection at the site. (Among Louisiana archeologists, `Garcia' prevails as the site name.) The human remains belong to an adult. No known individual was identified. No associated funerary objects are present.

In 1964, human remains representing, at minimum, one individual were removed from the Linsley Site (16OR40), in Orleans Parish, LA, by Sherwood Gagliano, during a surface collection. The human remains belong to an adult. No known individual was identified. No associated funerary objects are present.

In 1985, human remains representing, at minimum, one individual were removed from the Catfish Point site (16OR61), in Orleans Parish, LA, by Lacefield and Burden, during a surface collection. The human remains belong to an adult. No known individual was identified. No associated funerary objects are present.

In 1935 and also at an unknown date, human remains representing, at minimum, one individual were removed from the Pargoud Landing site (16OU1), in Oachita Parish, LA. The 1935 collectors were Ford and Freeman; the collector of the undated collection is unknown. The human remains belong to an adult female. No known individual was identified. The three associated funerary objects are one globular jar with restricted neck, one lot of bowl sherds, and one lot of jar sherds.

In 2002-2003, human remains representing, at minimum, two individuals were removed from the Bayou Grande Cheniere site (16PL159) (also known as Pelican Mounds), in Plaquemines Parish, LA, by R. Saunders, during excavations conducted in conjunction with an LSU field school. The human remains belong to a 3-4-year-old juvenile and an adult. No known individuals were identified. No associated funerary objects are present.

At an unknown date, human remains representing, at minimum, one individual were removed from site 16SB00A in St. Bernard Parish, LA, by Sherwood Gagliano. LSUMNS has no other information about these human remains. The human remains belong to an adult. No known individual was identified. No associated funerary objects are present.

In 1982, human remains representing, at minimum, one individual were removed from dredge spoil at site 16SB00B (the LSUMNS reference name is Trosclair Collection), in St. Bernard Parish, LA, near Fort Beauregard, during a surface collection by H. Trosclair, a local avocational archeologist. The human remains—predominantly long bone fragments—belong to an adult. No known individual was identified. No associated funerary objects are present.

In 1935, human remains representing, at minimum, one individual were removed from the Machias Lake Site (16SB2), in St. Bernard Parish, LA, by Richard B. Russell, a professor in the Department of Geology at LSU. The human remains belong to an adult. No known individual was identified. No associated funerary objects are present.

In 1936, and over numerous trips between 1976 and 1985, human remains representing, at minimum, 10 individuals were removed from the Mulatto Bayou site (16SB12_16SB18), in St. Bernard Parish, LA, by Eric Lacefield, a local amateur collector. The human remains belong to four adult males, one adult female, and five adults of undetermined sex. No known individuals were identified. No associated funerary objects are present.

Between 1972 and 1984, and at an unknown date, human remains representing, at minimum, seven individuals were removed from site 16SB20 (also known as Grand Pass, as Grand Pass #1 in LSUMNS card records, and as Camp at Grand Pass) in St. Bernard Parish, LA, by Robert Neuman (1970), Brant Savoie (Department of Fish and Wildlife), and Eric Lacefield (1980-1984), during surface collections. The human remains belong to seven adults. No known individuals were identified. No associated funerary objects are present.

In 1972, human remains representing, at minimum, one individual were removed from the Seven Dollar Bay site (16SB33), in St. Bernard Parish, LA, by Robert Neuman, during a surface collection. The human remains belong to an adult. No known individual was identified. No associated funerary objects are present.

In 1952 and 1981, human remains representing, at minimum, eight individuals were removed from the East Bayou site (16SB48), in St. Bernard Parish, LA. In 1952, Treadwell made a surface collection at the site in conjunction with the LSU Delta Survey initiated by McIntire, during which the remains of three individuals were removed (#52-327). Subsequent investigations of 16SB48 are poorly recorded but appear to have occurred in 1981, and to have included both surface collection and excavations, at which time the remains of an additional five individuals were removed. The human remains belong to eight adults. No known individuals were identified. No associated funerary objects are present.

In 1952, human remains representing, at minimum, one individual were removed from the Shotgun Shell site (16SB52), in St. Bernard Parish, LA, by Robert Treadwell, as part of a surface collection. This collection was made in conjunction with McIntire's survey project, Prehistoric Indian Settlements of the Changing Mississippi River Delta (Delta Survey). The human remains belong to an adult. No known individual was identified. No associated funerary objects are present.

At an unknown date, human remains, representing at minimum, one individual were removed from the Lake of the Second Trees site (16SB61), in St. Bernard Parish, LA, by unknown individuals. The human remains belong to an adult. No known individual was identified. No associated funerary objects are present.

In 1964 and 1965, human remains representing, at minimum, three individuals were removed from the Lower Vacherie site (16SJ2) (also known as Shell Hill Plantation and, in LSUMNS records, as Foulgoust), in St. Johns Parish, LA, during surface collections by William McIntire and William Haag (1964), and by Mike Zatarain (1965). The human remains belong to one juvenile and two adults. No known individuals were identified. No associated funerary objects are present. (Information in the State site files indicates that mortuary objects were present, but they are not at LSUMNS.)

Between 1974 and 1975, human remains representing, at minimum, 11 individuals were removed from the Bayou Jasmine site (16SJB2), in St. John the Baptist Parish, LA, during a series of surface collections atop deep dredge spoil deposited during highway and interstate construction through the site. Collections were made by professional and avocational collectors in 1974 (by Neuman and Lewis; Weinstein and Neuman; Neuman; Rivet; and Weinstein, Neuman, and Conn) and 1975 (by Ryan and Neuman; Wingate; and Melvin Glory). In addition, excavations conducted at the site in 1975 by Robert Neuman produced a small number of human bones culled from faunal samples belonging to the Tchefuncte component by Kathleen Byrd (#176, 180). The human remains belong to 11 adults. No known individuals were identified. No associated funerary objects are present.

At an unknown date, human remains representing, at minimum, six individuals were removed from the Bayou Becnel site (16SJB5), in St. John the Baptist Parish, LA. Although bags containing artifacts and human bones have what appears to be a trinomial accession number like those used in LSUMNS binders, there are no accession records for 16SJB5 in the LSUMNS's records. The human remains belong to six adults. No known individuals were identified. No associated funerary objects are present.

In 1940 and 1957, human remains representing, at minimum, five adult individuals were removed from the Miller Place site (16SM6) (also known as Belle River Landing), in St. Martin Parish, LA. Surface collections were made by Edward Doran in 1940, by Neitzel in 1940, and by Saucier and Gagliano in 1957. The human remains belong to five adults. No known individuals were identified. No associated funerary objects are present.

In 1941, human remains representing, at minimum, 60 individuals were removed from the Lafayette Mounds site (16SM17), in St. Martin Parish, LA. The human remains belong to 60 adults. No known individuals were identified. No associated funerary objects are present.

In 1970, human remains representing, at minimum, two adult individuals were removed from the Mary Barber site (16SM35), in St. Martin Parish, LA, by Robert Neuman during a surface collection. The human remains belong to two adults. No known individuals were identified. No associated funerary objects are present.

In 1975, human remains representing, at minimum, one individual were removed from the Patterson Mound site (16SMY10) (also known as Atchafalaya Basin, as Cocke Mounds, and as Qiteet Kuti'ngi na'mu), in St. Mary Parish, LA, by Frank Servello, during a surface collection. The human remains belong to an adult. No known individual was identified. No associated funerary objects are present.

In 1950, human remains representing, at minimum, two individuals were removed from the Oyster Bayou Site (16SMY11), in St. Mary Parish, LA, by R.J. Russell, during a surface collection. The human remains probably were collected in conjunction with McIntire's Delta Survey. The human remains were catalogued into LSUMNS in 1952. The human remains belong to two adults. No known individuals were identified. No associated funerary objects are present.

In 1952, human remains representing, at minimum, one individual were removed from the Possum Point site (16SMY31), in St. Mary Parish, LA, by an unknown collector. The surface collection was probably done by an individual associated with McIntire's Delta survey. No known individual was identified. No associated funerary objects are present.

Between 1940 and 1941, human remains representing, at minimum, 60 individuals were removed from the Tchefuncte site (16ST1), in St. Tammany Parish, LA. The human remains were recovered as part of excavation projects conducted initially by Clarence Johnson, under the auspices of the Civilian Conservation Corps (CCC) and subsequently by Edwin Doran, through the WPA. No known individuals were identified. No associated funerary objects are present.

In 1937, human remains representing, at minimum, one individual were removed from the Indian Village Landing site (16ST6), in St. Tammany Parish, LA, by James Ford, during a surface collection. The collection was limited to vertebral fragments. No known individual was identified. No associated funerary objects are present.

In 1941, human remains representing, at minimum, one individual were removed from the West Pearl River site (16ST7) (related to 16ST47), in St. Tammany Parish, LA, by Edward Doran, during testing at the site. No known individual was identified. No associated funerary objects are present.

In 1995, human remains representing, at minimum, one individual were removed from the Hoover site (16TA5), in Tangipahoa Parish, LA. This individual was recovered as part of excavations conducted by R. Saunders of LSUMNS. The human remains, which had been interred secondarily and were very poorly preserved, belong to an adult. No known individual was identified. No associated funerary objects are present.

In 1955, human remains representing, at minimum, one individual were removed from the Shackleford Church site (16TE1) (also known as Shackleford Lake; other site numbers are 16TE59 and LMS 24-K-3), in Tensas Parish, LA, by William Haag, during a surface collection. The human remains belong to an adult. No known individual was identified. No associated funerary objects are present.

At an unknown date, human remains representing, at minimum, three individuals were removed from the Seabreeze Pass site (16TR17), in Terrebonne Parish, LA, by Rainwater during a surface collection. Sometime in the 1980s, Rainwater donated these human remains, along with artifacts, to LSUMNS. The human remains belong to three adults. No known individuals were identified. No associated funerary objects are present.

In 1952, human remains representing, at minimum, one individual were removed from the Bayou Du Large site (16TR19) (also known as Bayou Mauvais), in Terrebonne Parish, LA, by William McIntire, presumably during a surface collection. The human remains belong to an adult. No known individual was identified. No associated funerary objects are present.

In 1952 and 1993, human remains representing, at minimum, one individual were removed from the Bayou Sale #2 site (16TR35), in Terrebonne Parish, LA. In 1952, William McIntire removed the remains during a surface collection, and in 1993, R. Saunders removed two molars, also during a surface collection. The human remains belong to an adult. No known individual was identified. No associated funerary objects are present.

In 1971, human remains representing, at minimum, five individuals were removed from 16TR81 (no State site file name; called Crochet's Island in LSUMNS cards), in Terrebonne Parish, LA, by William Haag, during a surface collection. The human remains belong to four adults and one subadult. No known individuals were identified. No associated funerary objects are present.

In March of 1993, human remains representing, at minimum, one individual were removed from the Bayou Terrebonne #8L site (16TR273), in Terrebonne Parish, LA, by Gerard Riché, during a surface collection. No known individual was identified. No associated funerary objects are present.

In 1950 and again in 1952, human remains representing, at minimum, six individuals were removed from the Veazey site (16VM7_16VM8, also LMS 34-G-4, LMS 34-G- 5), in Vermillion Parish, LA. The human remains were removed during surface collections, first by an unknown individual (possibly R.J. Russell), and later by Roger Saucier. The human remains belong to five adults and one subadult. No known individuals were identified. No associated funerary objects are present.

In 1951, human remains representing, at minimum, four individuals were removed from the Morgan Mounds site (16VM9), in Vermillion Parish, LA, by William McIntire, as part of a surface collection. The human remains belong to three adults and one subadult. No known individuals were identified. No associated funerary objects are present.

In 1951, human remains, representing, at minimum, one individual were removed from the Six Mile Canal site, (16VM14), in Vermillion Parish, LA, by William McIntire, during a surface collection. The human remains belong to an adult. No known individual was identified. No associated funerary objects are present.

In 1952 and at an unknown date, human remains representing, at minimum, one individual were removed from the Indian Point site (16VM24), in Vermillion Parish, LA. In 1952, Saucier and Van Lopik recovered a single tooth during a surface collection (#52-133), and at an unknown date, a collector listed in LSUMNS's ledger as “Ford?” found a fragment of a mandible (#19920). The human remains belong to an adult. No known individual was identified. No associated funerary objects are present.

At an unknown date, human remains representing, at minimum, one individual were removed from an unknown site in Louisiana by an individual named “Moorman.” The human remains—two teeth—were found among artifacts donated to LSUMNS in 1964. The human remains, which are identified as prehistoric, belong to an adult. No known individual was identified. No associated funerary objects are present.

Determinations Made by Louisiana State University, Museum of Natural Science

Officials of Louisiana State University, Museum of Natural Science have determined that:

• Pursuant to 25 U.S.C. 3001(9), the human remains described in this notice represent the physical remains of 1,070 individuals of Native American ancestry.

• Pursuant to 25 U.S.C. 3001(3)(A), the 30 objects described in this notice are reasonably believed to have been placed with or near individual human remains at the time of death or later as part of the death rite or ceremony.

• Pursuant to 25 U.S.C. 3001(2), there is a relationship of shared group identity that can be reasonably traced between the Native American human remains and associated funerary objects and the Chitimacha Tribe of Louisiana. The determination of affiliation with the Chitimacha is based on the presence of a Lower Mississippi River Valley (LMRV) cultural assemblage or site location within the LMRV culture area. The Chitimacha are the only federally recognized Tribe with direct prehistoric ties to the LMRV culture area.

Additional Requestors and Disposition

Lineal descendants or representatives of any Indian Tribe or Native Hawaiian organization not identified in this notice that wish to request transfer of control of these human remains and associated funerary objects should submit a written request with information in support of the request to Dr. Rebecca Saunders, Louisiana State University, Museum of Natural Science, 119 Foster Hall, LSU, Baton Rouge, LA 70803, telephone (225) 578-6562 or (225) 588-0909, email rsaunde@lsu.edu, by December 19, 2022. After that date, if no additional requestors have come forward, transfer of control of the human remains and associated funerary objects to the Chitimacha Tribe of Louisiana may proceed.

Louisiana State University, Museum of Natural Science is responsible for notifying the Chitimacha Tribe of Louisiana that this notice has been published.

Dated: November 9, 2022.
Melanie O'Brien,
Manager, National NAGPRA Program.

[FR Doc. 2022-25135 Filed 11-17-22; 8:45 am]

BILLING CODE 4312-52-P